DEPARTMENT OF ENERGY

Federal Energy Regulatory Commission

Combined Notice of Filings #1

Take notice that the Commission received the following electric corporate filings:

Docket Numbers: EC17-88-000.

Applicants: Monongahela Power Company, Allegheny Energy Supply Company, LLC.

Description: Response of Monongahela Power Company to June 27, 2017 letter requesting additional information.

Filed Date: 7/18/17.

Accession Number: 20170718-5097.

Comments Due: 5 p.m. ET 8/8/17.

Take notice that the Commission received the following exempt wholesale generator filings:

Docket Numbers: EG17-128-000.

Applicants: Great Valley Solar 1, LLC.

Description: EWG Self-Certification of Great Valley Solar 1, LLC.

Filed Date: 7/19/17.

Accession Number: 20170719-5046.

Comments Due: 5 p.m. ET 8/9/17.

Docket Numbers: EG17-129-000.

Applicants: Great Valley Solar 2, LLC.

Description: EWG Self-Certification of Great Valley Solar 2, LLC.

Filed Date: 7/19/17.

Accession Number: 20170719-5047.

Comments Due: 5 p.m. ET 8/9/17.

Take notice that the Commission received the following electric rate filings:

Docket Numbers: ER10-2906-008; ER10-2908-008; ER10-2910-008; ER10-2911-008; ER11-4666-002; ER11-4667-002; ER11-4669-002; ER11-4670-002; ER12-295-001; ER12-709-001.

Applicants: Morgan Stanley Capitol Group Inc., MS Solar Solutions Corp., Naniwa Energy LLC, Power Contract Financing II, L.L.C., NaturEner Glacier Wind Energy 1, LLC, NaturEner Glacier Wind Energy 2, LLC, NaturEner Rim Rock Wind Energy, LLC, Naturener Montana Wind Energy, LLC, NaturEner Power Watch, LLC, NaturEner Wind Watch, LLC.

Description: Supplement to December 30, 2016 Updated Market Power Analysis for the Northwest Region of the Morgan Stanley Public Utilities, et. al.

Filed Date: 7/18/17.

Accession Number: 20170718-5079.

Comments Due: 5 p.m. ET 8/8/17.

Docket Numbers: ER17-2104-000.

Applicants: Southern Partners.

Description: Baseline eTariff Filing: Southern Partners, INC MBR Application to be effective 8/1/2017.

Filed Date: 7/18/17.

Accession Number: 20170718-5093.

Comments Due: 5 p.m. ET 8/8/17.

Docket Numbers: ER17-2105-000.

Applicants: Public Service Company of Colorado.

Description: § 205(d) Rate Filing: 20170713_Town of Center PPA to be effective 4/11/2017.

Filed Date: 7/18/17.

Accession Number: 20170718-5118.

Comments Due: 5 p.m. ET 8/8/17.

Docket Numbers: ER17-2106-000.

Applicants: Duke Energy Carolinas, LLC.

Description: § 205(d) Rate Filing: DEC-PMPA RS No. 340 Revised PPA to be effective 7/1/2017.

Filed Date: 7/19/17.

Accession Number: 20170719-5023.

Comments Due: 5 p.m. ET 8/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2017.
Kimberly D. Bose,
Secretary.

[FR Doc. 2017-15548 Filed 7-24-17; 8:45 am]

BILLING CODE 6717-01-P